SECURITIES AND EXCHANGE COMMISSION

[Release No. 34-102328; File No. SR-NYSEAMER-2024-63]

Self-Regulatory Organizations; NYSE American, LLC; Notice of Withdrawal of a Proposed Rule Change To Waive the Options Regulatory Fee (ORF) for December 2024

February 3, 2025.

On November 25, 2024, NYSE American, LLC (the “Exchange” or “NYSE American”) filed with the Securities and Exchange Commission (the “Commission”), pursuant to Section 19(b)(1) of the Securities Exchange Act of 1934 (the “Act”) ¹ and Rule 19b-4 thereunder,² a proposed rule change (File No. SR-NYSEAMER-2024-63) to amend its Options Fee Schedule regarding the Options Regulatory Fee (“ORF”).³ The proposed rule change was immediately effective upon filing with the Commission pursuant to Section 19(b)(3)(A) of the Act.⁴ The proposed rule change was published for comment in the Federal Register on December 16, 2024.⁵ On January 24, 2025, pursuant to Section 19(b)(3)(C) of the Act, the Commission temporarily suspended the proposed rule change and instituted proceedings under Section 19(b)(2)(B) of the Act to determine whether to approve or disapprove the proposed rule change.⁶ On January 27, 2025, the Exchange withdrew the proposed rule change (SR-NYSEAMER-2024-63).

¹ 15 U.S.C. 78s(b)(1).

² 17 CFR 240.19b-4.

³ See Securities Exchange Act Release No. 101866 (Dec. 10, 2024), 89 FR 101674 (Dec. 16, 2024) (“Notice”).

⁴ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁵ See Notice, supra note 3.

⁶ See Securities Exchange Act Release No. 102277, 90 FR 8546 (Jan. 30, 2025).

⁷ 17 CFR 200.30-3(a)(12).

For the Commission, by the Division of Trading and Markets, pursuant to delegated authority.⁷
Sherry R. Haywood,
Assistant Secretary.

[FR Doc. 2025-02328 Filed 2-6-25; 8:45 am]

BILLING CODE 8011-01-P